SECURITIES AND EXCHANGE COMMISSION

Submission for OMB Review; Comment Request

Upon Written Request, Copies Available From: Securities and Exchange Commission, Office of Filings and Information Services, Washington, DC 20549.

Extension: Complaint & Question Forms; SEC File No. 270-485; OMB Control No. 3235-0547.

Notice is hereby given that pursuant to the Paperwork Reduction Act of 1995 (44 U.S.C. 3501 et seq.) the Securities and Exchange Commission (“Commission”) has submitted to the Office of Management and Budget a request for extension of the previously approved collection of information discussed below. The titles of the forms are: Enforcement Complaint Form; Investor Complaint Form; Financial Privacy Notice Complaint Form; and Questions and Feedback Form.

Each year, the SEC receives more than 250,000 contacts from investors who have complaints or questions on a wide range of investment-related issues. These contacts generally fall into the following three categories:

(a) Complaints against SEC-regulated individuals or entities;

(b) Questions concerning the federal securities laws, companies or firms that the SEC regulates, or other investment-related questions; and

(c) Tips concerning potential violations of the federal securities laws.

Investors who submit complaints, ask questions, or provide tips do so voluntarily. To make it easier for investors to contact the agency electronically, the SEC created a series of investor complaint and question Web forms. Investors can access these forms through the SEC Center for Complaints and Enforcement Tips at http://www.sec.gov/complaint.shtml.

Although the SEC's complaint and question forms provide a structured format for incoming investor correspondence, the SEC does not require that investors use any particular form or format when contacting the agency. To the contrary, investors may submit complaints, questions, and tips through a variety of other means, including telephone, letter, facsimile, or e-mail. Approximately 20,000 investors each year voluntarily choose to use the complaint and question forms, and approximately 98 percent of those investors submit the forms electronically through the Internet (as opposed to printing and mailing or faxing the forms).

Investors who choose not to use the complaint and question forms receive the same level of service as those who do. The dual purpose of the forms is to make it easier for the public to contact the agency with complaints, questions, tips, or other feedback and to streamline the workflow of the SEC staff who handle those contacts.

The SEC has used—and will continue to use—the information that investors supply on the complaint and question forms to review and process the contact (which may, in turn, involve responding to questions, processing complaints, or, as appropriate, initiating enforcement investigations), to maintain a record of contacts, to track the volume of investor complaints, and to analyze trends.

The complaint forms ask investors to provide information concerning, among other things, their names, how they can be reached, the names of the individuals or entities involved, the nature of their complaint or tip, what documents they can provide, and what, if any, legal actions they have taken. The question form asks investors to provide their names, e-mail addresses, and questions.

The SEC's online complaint and question forms automatically route the investor's complaint, question, or tip to the appropriate division or office—specifically, to either the Division of Enforcement or the Office of Investor Education and Assistance. Many questions on the online complaint and questions forms appear in multiple-choice format or employ drop-down boxes so that the investor can provide information by simply checking a box or selecting a pre-loaded option. Moreover, three of the four forms—specially the Investor Complaint Form, the Financial Privacy Notice Complaint Form, and the Questions and Feedback Form—map directly to the correspondence management system that the Office of Investor Education and Assistance uses, thus significantly reducing the need for SEC staff to enter manually the data that the investor already provided. Investors who use the Enforcement Complaint Form receive an automatic response from the Division of Enforcement. In addition, investors who use the Investor Complaint Form, the Financial Privacy Notice Complaint Form, and the Questions and Feedback Form not only receive an immediate, online confirmation of their submissions, but they also receive custom responses via e-mail from the Office of Investor Education and Assistance which include an automatically generated file number.

Investor use of the SEC's complaint and question forms is strictly voluntary. Moreover, the SEC does not require investors to submit complaints, questions, tips, or other feedback. Absent the forms, investors would still have several ways to contact the agency, including telephone, facsimile, letters, and e-mail. Nevertheless, the SEC created its complaint and question forms to make it easier for investors to contact the agency with complaints, questions, or tips. The forms further streamline the workflow of SEC staff who record, process, and respond to investor contacts.

The staff of the SEC estimates that the total reporting burden for using the complaint and question forms is 5,000 hours. The calculation of this estimate depends on the number of investors who use the forms each year and the estimated time it takes to complete the forms: 20,000 respondents × 15 minutes = 5,000 burden hours.

Responses to the complaint and question forms are subject to the Freedom of Information Act (FOIA), which generally allows the SEC to make information available to the public upon request. An investor who submits a complaint or question form may request that his or her information not be released to the public by writing a letter asking that the information remain confidential under one of the exemptions described in FOIA (see 5 U.S.C. 552). The SEC determines whether the investor's claim of an exemption is valid when someone requests the investor's information under FOIA. The SEC often makes its files available to other governmental agencies, particularly United States Attorneys, state securities regulators, and state prosecutors. There is a likelihood that information supplied by investors will be made available to such agencies where appropriate. Whether or not the SEC makes its files available to other governmental agencies is, in general, a confidential matter between the SEC and such other governmental agencies.

The document retention period for the correspondence management system used by the Office of Investor Education and Assistance is four years.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503, or send an e-mail to: David_Rostker@omb.eop.gov; and (ii) R. Corey Booth, Director/Chief Information Officer, Office of Information Technology, Securities and Exchange Commission, 450 Fifth Street, NW., Washington, DC 20549. Comments must be submitted to OMB within 30 days of this notice.

Dated: April 4, 2005.
Margaret H. McFarland,
Deputy Secretary.

[FR Doc. E5-1736 Filed 4-12-05; 8:45 am]

BILLING CODE 8010-01-P